DEPARTMENT OF COMMERCE

National Oceanic and Atmospheric Administration

[I.D. 083104F]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings from October 4 through October 12, 2004, in Sitka, AK.

DATES: The Council's Advisory Panel will begin at 8 a.m., Monday, October 4 and continue through Friday, October 8, 2004. The Scientific and Statistical Committee will begin at 8 a.m. on Monday, October 4, and continue through Wednesday, October 6, 2004.

The Council will begin its plenary session at 8 a.m. on Wednesday, October 4 continuing through Tuesday October 12. All meetings are open to the public except executive sessions. The Enforcement Committee will meet Tuesday, October 5 from 1 p.m. to 5 p.m.

ADDRESSES: The meeting will be held at the Centennial Building, 330 Harbor Drive, Sitka, AK.

Council address: North Pacific Fishery Management Council, 605 W. 4th Avenue, Suite 306, Anchorage, AK 99501-2252.

FOR FURTHER INFORMATION CONTACT: Council staff, telephone: 907-271-2809.

SUPPLEMENTARY INFORMATION: Council Plenary Session: The agenda for the Council's plenary session will include the following issues. The Council may take appropriate action on any of the issues identified.

1. Reports

Executive Director's Report

National Marine Fisheries Service Management Report

Enforcement Report

Coast Guard Report

Alaska Department of Fish & Game (ADF&G) Report

U.S. Fish & Wildlife Service Report

Protected Species Report

2. Gulf of Alaska Groundfish (GOA) Rationalization: Review progress and refine alternatives.

3. GOA Rockfish Demonstration Project: Review progress and clarify Elements and Options for analysis.

4. Essential Fish Habitat (EFH) and Habitat Area Particular Concern (HAPC): Initial Review of Environmental Assessment, receive Center for Independent Experts review and comment report, review spatial analysis of revised alternative 5b, and take action as necessary.

5. Improved Retention/Improved Utilization (IR/IU): Receive progress report on Amendment 80a and 80b.

6. Community Development Quota (CDQ) Program: Status Report on analysis of management alternatives for CDQ reserves, report on CDQ community eligibility, report on confidentiality of CDQ information submitted to NMFS.

7. Halibut/Sablefish Individual Fishing Quotas (IFQs) Program: Initial review of regulatory amendment package for IFQ/CDQ Area 4C/4D, initial review of regulatory amendment package for IFQ amendments (housekeeping and block).

8. Halibut Subsistence: Receive report on ADF&G Subsistence Halibut Survey, initial review of regulatory amendment package.

9. Scallop Fishery Management Plan (FMP): Final action to modify License Limitation Program and update FMP.

10. Crab FMP: Review Crab Stock Assessment Fishery Evaluation (SAFE) report.

11. Groundfish Management: Receive report from Non-Target Species Committee, review initial discussion paper on rockfish management (T), review discussion paper on Aleutian Island Pollock Incidental Catch Allowance (T), initial groundfish specifications, final action on FMP updates.

12. Staff Tasking: Review tasking and Committee (including AP policy) and provide direction to staff/action as necessary.

13. Other Business:

Scientific and Statistical Committee (SSC): The SSC agenda will include the following issues:

1. EFH and HAPC

2. IR/IU

3. Halibut Subsistence and IFQ program adjustments

4. Crab Management

5. Groundfish Management

Advisory Panel: The Advisory Panel will address the same agenda issues as the Council.

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least 7 working days prior to the meeting date.

Dated: September 8, 2004.
Alan D. Risenhoover,
Acting Director, Office of Sustainable Fisheries, National Marine Fisheries Service.

[FR Doc. E4-2162 Filed 9-10-04; 8:45 am]

BILLING CODE 3510-22-S